COMMODITY FUTURES TRADING COMMISSION

Sunshine Act Meetings

Time and Date: 11 a.m., Friday, January 17, 2003.

Place: 1155 21st St., NW., Washington DC, 9th Floor Conference Room.

Status: Closed.

Matters to be Considered: Surveillance meeting.

Contact Person for More Information: Jean A. Webb, 202-418-5100.

Jean A. Webb,
Secretary of the Commission.

[FR Doc. 02-33104 Filed 12-27-02; 12:30 am]

BILLING CODE 6351-01-M